DEPARTMENT OF COMMERCE

National Institute of Standards and Technology

National Advisory Committee on Windstorm Impact Reduction Meeting

AGENCY: National Institute of Standards and Technology, Department of Commerce.

ACTION: Notice of open meeting.

SUMMARY: The National Advisory Committee on Windstorm Impact Reduction (NACWIR or Committee), will meet on Tuesday, June 27, and Wednesday, June 28, 2017, from 9:00 a.m. to 5:00 p.m. Eastern Time. The primary purpose of the meeting will be to assess and develop recommendations on (1) the priorities of the Draft Strategic Plan for the National Windstorm Impact Reduction Program (NWIRP), and (2) trends and developments in the natural, engineering, and social sciences and practices of windstorm impact mitigation. The final agenda and any meeting materials will be posted on the NWIRP Web site at https://www.nist.gov/el/materials-and-structural-systems-division-73100/national-windstorm-impact-reduction-program-1.

DATES: The NACWIR will meet on Tuesday, June 27, and Wednesday, June 28, 2017, from 9:00 a.m. until 5:00 p.m. Eastern Time. The meeting will be open to the public.

ADDRESSES: The meeting will be held in Building 215, Rm. C103 at the National Institute of Standards and Technology. The address is 100 Bureau Dr., Gaithersburg, MD 20899-1070. Questions regarding the meeting should be sent to the National Windstorm Impact Reduction Program Director, National Institute of Standards and Technology (NIST), 100 Bureau Drive, Mail Stop 8611, Gaithersburg, Maryland 20899. Anyone wishing to participate must register by 5:00 p.m. Eastern Time, Tuesday, June 20, 2017. For instructions on how to participate in the meeting, please see the SUPPLEMENTARY INFORMATION section of this notice.

FOR FURTHER INFORMATION CONTACT: Steve Potts, Management and Program Analyst, NWIRP, Engineering Laboratory, NIST, 100 Bureau Drive, Mail Stop 8611, Gaithersburg, Maryland 20899. He can also be contacted by email at stephen.potts@nist.gov; or by phone at (301) 975-5412.

SUPPLEMENTARY INFORMATION: The National Advisory Committee on Windstorm Impact Reduction (NACWIR) was established in accordance with the requirements of the National Windstorm Impact Reduction Act Reauthorization of 2015, Public Law 114-52. The NACWIR is charged with offering assessments and recommendations on—

• Trends and developments in the natural, engineering, and social sciences and practices of windstorm impact mitigation;

• the priorities of the Strategic Plan for the National Windstorm Impact Reduction Program (Program);

• the coordination of the Program;

• the effectiveness of the Program in meeting its purposes; and

• any revisions to the Program which may be necessary.

Background information on NWIRP and the Committee is available at https://www.nist.gov/news-events/news/2016/07/nist-leads-federal-effort-save-lives-and-property-windstorms.

Pursuant to the Federal Advisory Committee Act, as amended, 5 U.S.C. App., notice is hereby given that the NACWIR will meet on Tuesday, June 27 and Wednesday, June 28, 2017, from 9:00 a.m. to 5:00 p.m. Eastern Time. The primary purpose of the meeting will be to assess and develop recommendations on (1) the priorities of the Draft Strategic Plan for the National Windstorm Impact Reduction Program (NWIRP), and (2) trends and developments in the natural, engineering, and social sciences and practices of windstorm impact mitigation. The agenda may change to accommodate Committee business. The agenda and meeting materials will be posted on the NACWIR Web site at https://www.nist.gov/el/mssd/nwirp/national-advisory-committee-windstorm-impact-reduction. Individuals and representatives of organizations who would like to offer comments and suggestions related to the Committee's affairs are invited to request a place on the agenda. On June 28, 2017, approximately fifteen minutes will be reserved near the beginning of the meeting for public comments, and speaking times will be assigned on a first-come, first-serve basis. The amount of time per speaker will be determined by the number of requests received, but is likely to be about three minutes each. Questions from the public will not be considered during this period. All those wishing to speak must submit their request by email to the attention of Mr. Steve Potts, stephen.potts@nist.gov by 5:00 p.m. Eastern time, Tuesday, June 20, 2017.

Speakers who wish to expand upon their oral statements, those who had wished to speak but could not be accommodated, and those who were unable to participate are invited to submit written statements to NACWIR, National Institute of Standards and Technology, 100 Bureau Drive, MS 8611, Gaithersburg, Maryland 20899, or electronically by email to stephen.potts@nist.gov.

All visitors to the NIST site are required to pre-register to be admitted. Anyone wishing to attend this meeting must register by 5:00 p.m. Eastern Time, Tuesday, June 20, 2017, in order to attend. Please submit your full name, email address, and phone number to Steve Potts. Non-U.S. citizens must submit additional information; please contact Mr. Steve Potts. Mr. Potts' email address is stephen.potts@nist.gov and his phone number is (301) 975-5412. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please visit: http://www.nist.gov/public_affairs/visitor/.

Kevin Kimball,
Chief of Staff.

[FR Doc. 2017-12020 Filed 6-8-17; 8:45 am]

BILLING CODE 3510-13-P